COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be furnished by nonprofit agencies employing persons who are blind or have other severe disabilities, and deletes products and services previously furnished by such agencies.

DATES: Comments must be received on or before: September 20, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Janitorial Service

Mandatory for: FAA, Denver Air Traffic Control Tower/Base Building and TRACON/Generator Building, Denver, CO

Mandatory Source of Supply: Bayaud Industries, Inc., Denver, CO

Contracting Activity: FEDERAL AVIATION ADMINISTRATION, 697DCK REGIONAL ACQUISITIONS SVCS

Service Type: Base Supply Center and Retail Gift Shop

Mandatory for: Bureau of Alcohol, Firearms, Tobacco and Explosives, Washington, DC

Mandatory Source of Supply: Virginia Industries for the Blind, Charlottesville, VA

Contracting Activity: ATF ACQUISITION AND PROPERTY MGMT DIV, ATF

Deletions

The following products and services are proposed for deletion from the Procurement List:

Products

NSN(s)—Product Name(s)

MR 10638—Carrot and Dip To Go, Includes Shipper 20638

MR 10651—Saver, Lemon

MR 10671—Celery and Dip To Go, Includes Shipper 20671

MR 10744—Container, Snack, Pigout, Includes Shipper 20744

MR 10767—Saver, Grapefruit, Includes Shipper 20767

MR 11102—Bags, Roasting, Includes Shipper 21102

Mandatory Source of Supply: Winston-Salem Industries for the Blind, Inc., Winston-Salem, NC

Contracting Activity: Military Resale-Defense Commissary Agency

Services

Service Type: Laundry Service

Mandatory for: Health & Human Services Supply Center, Perry Point, MD

Mandatory Source of Supply: Rappahannock Goodwill Industries, Inc., Fredericksburg, VA

Contracting Activity: HEALTH AND HUMAN SERVICES, DEPARTMENT OF, DEPT OF HHS

Service Type: Administrative Services

Mandatory for: General Services Administration: 200 Chestnut Street, Philadelphia, PA

Mandatory Source of Supply: Elwyn, Aston, PA

Contracting Activity: PUBLIC BUILDINGS SERVICE, GSA/PBS/R03 NORTH SERVICE CENTER

Service Type: Latrine Services

Mandatory for: Stryker National Logistics Center, Auburn, WA

Mandatory Source of Supply: Skookum Educational Programs, Bremerton, WA

Contracting Activity: DEPT OF THE ARMY, W4GG HQ US ARMY TACOM

Michael R. Jurkowski,
Deputy Director, Business & PL Operations.

[FR Doc. 2020-18362 Filed 8-20-20; 8:45 am]

BILLING CODE 6353-01-P